ENVIRONMENTAL PROTECTION AGENCY

[EPA-HQ-OW-2004-0013; FRL-8575-8]

Agency Information Collection Activities; Submission to OMB for Review and Approval; Comment Request; EPA Strategic Plan Information on Source Water Protection (Renewal); EPA ICR No. 1816.04; OMB Control No. 2040-0197

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 7, 2008.

ADDRESSES: Submit your comments, referencing Docket ID No. EPA-HQ-OW-2004-0013 to (1) EPA online using http://www.regulations.gov (our preferred method), by e-mail to OW-Docket@epa.gov or by mail to: EPA Docket Center, Environmental Protection Agency, Water Docket, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jill Dean, Drinking Water Protection Division—Prevention Branch, Office of Ground Water and Drinking Water (MC 4606M), Environmental Protection Agency, 1200 Pennsylvania Ave., NW., Washington, DC 20460; telephone number: 202-564-8241; fax number: 202-564-3756; e-mail address: dean.jill@epa.gov.

SUPPLEMENTARY INFORMATION: EPA has submitted the following ICR to OMB for review and approval according to the procedures prescribed in 5 CFR 1320.12. On February 29, 2008 (73 FR 11108), EPA sought comments on this ICR pursuant to 5 CFR 1320.8(d). EPA received no comments. Any additional comments on this ICR should be submitted to EPA and OMB within 30 days of this notice.

EPA has established a public docket for this ICR under Docket ID No. EPA-HQ-OW-2004-0013, which is available for online viewing at www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to www.regulations.gov.

Title: EPA Strategic Plan Information on Source Water Protection (Renewal).

ICR numbers: EPA ICR No. 1816.04, OMB Control No. 2040-0197.

ICR Status: This ICR is scheduled to expire on June 30, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: Section 1453(a)(3) of the Safe Drinking Water Act (SDWA) required States to submit a Source Water Assessment Program within 18 months after the U.S. Environmental Protection Agency (EPA) published its State Source Water Assessment and Protection Programs Guidance: Final Guidance. Upon EPA approval of their programs, States conducted source water assessments of their public water systems. State assessments were required to be completed three and a half years after approval of a state's program; the assessment program is therefore complete relative to the SDWA requirements. The burden and cost associated with all of the assessment was accounted for in three previous information collection requests (EPA ICR Nos. 1816.01, 1816.02, and 1816.03).

The 2006-2011 EPA Strategic Plan incorporates a source water contamination prevention measure to describe the voluntary source water protection (SWP) actions taken at the local or regional level based on the results of completed source water assessments. EPA's strategic target for SWP sets a goal of minimized risk to public health in 50 percent of community water systems (CWSs) and the 62 percent of the U.S. population served by those CWSs by 2011. Achieving minimized risk to public health focuses on developing and substantially implementing SWP strategies to address potential contamination risks within each CWS source water area.

EPA is collecting, on a voluntary basis, data from the States on their progress toward substantial implementation of prevention strategies for all CWS SWAs. While Section 1453(a)(3) of the SDWA does not authorize source water protection, States are encouraged to use the data collected in the source water assessments to develop protection plans for source water areas. Drinking Water State Revolving Fund monies authorized in Section 1452(g)(2)(B) may be used for activities to support efforts in source water protection. The information is being collected under EPA's Office of Water National Program Guidance and the State Grant Performance Measures Template.

Burden Statement: The annual public reporting and recordkeeping burden for this collection of information is estimated to average 33 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State environmental and health agencies.

Estimated Number of Respondents: 52.

Frequency of Response: Annual.

Estimated Total Annual Hour Burden: 1,716.

Estimated Total Annual Cost: $820,287, includes $748,257 annualized capital or O&M costs, and $72,030 labor costs.

Changes in the Estimates: There is a decrease of 149,215 hours per year in the total estimated burden currently identified in the OMB Inventory of Approved ICR Burdens. This decrease in burden is due to a decrease in the number of items being reported. The burden estimates were considerably greater in the current ICR because it included an additional 146,719 hours annually and $0.24 million annually to allow nine states to complete the source water assessments.

Dated: May 28, 2008.
Sara Hisel-McCoy,
Director, Collection Strategies Division.

[FR Doc. E8-12586 Filed 6-4-08; 8:45 am]

BILLING CODE 6560-50-P